DEPARTMENT OF THE INTERIOR

Bureau of Land Management

[PO #4820000251]

New Recreation Fee Areas and Requirement To Obtain an Individual Special Recreation Permit for On-River Camping Within the Upper Colorado River Special Recreation Management Areas, Colorado

AGENCY: Bureau of Land Management, Interior.

ACTION: Notice of new fees.

SUMMARY: Pursuant to the Federal Lands Recreation Enhancement Act (FLREA), the Bureau of Land Management (BLM), Kremmling Field Office (KFO) and the Colorado River Valley Field Office (CRVFO) are establishing new Special Areas and new recreation fee areas (campgrounds, designated campsites, and day use fees) within the two Upper Colorado River (UCR) Special Recreation Management Areas (SRMAs) managed by the field offices.

DATES: New fees will take effect on July 7, 2025, unless the BLM publishes a Federal Register notice to the contrary.

ADDRESSES: Documents concerning this fee change may be reviewed at the Kremmling Field Office, 2103 East Park Ave., Kremmling, CO 80459; at the Colorado River Valley Field Office, 2300 River Frontage Road, Silt, CO 81652; and online at: https://www.blm.gov/sites/default/files/docs/2024-10/Business%20Plan%20for%20the%20UCR.pdf.

FOR FURTHER INFORMATION CONTACT: Stephen Leonard, Field Manager, Kremmling Field Office at Kremmling Field Office, phone: (970) 724-3000, email: sleonard@blm.gov; or Hilary Boyd, Assistant Field Manager, Colorado River Valley Field Office; phone: (970) 876-9003, email: hboyd@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Consistent with FLREA, the intent of recreation fees is to help protect natural resources, provide for public health and safety, and facilitate access to public lands and related waters, not to maximize fee revenue. Fees are a way of ensuring that those who actively use recreation opportunities make a greater, but reasonable, contribution toward protecting and enhancing those opportunities than those who do not utilize recreational opportunities.

FLREA directs the Secretary of the Interior to publish a 6-month advance notice in the Federal Register whenever new recreation fee areas are established. In accordance with BLM policy, the Business Plan for the UCR SRMAs explains the fee collection process and how fees will be used at these sites.

KFO will charge Standard Amenity fees of $10 per day per vehicle, $5 per day for individuals (motorcycle, bicycle, or walk-in), and $20 per day per high-capacity vehicle (carrying capacity greater than 15 passengers), and will offer a $50 day-use season pass (valid for all day-use sites) at Confluence Recreation Area, Gore Canyon Ranch Access, Inspiration Flats Recreation Area, Radium Warm Springs Recreation Area, and State Bridge Recreation Area/Piney Peak Access.

CRVFO will implement new Standard Amenity fees of $10 per day per vehicle, $5 per day for individuals (motorcycle, bicycle, or walk-in), and $20 per day per high-capacity vehicle (carrying capacity greater than 15 passengers), and will offer a $50 day-use season pass (valid for all day-use sites) at Two Bridges River Access, Catamount Recreation Site, Pinball Recreation Site, Cottonwood Island Recreation Site, Lyon's Gulch Recreation Site, and Dotsero Landing River Access.

KFO and CRVFO will implement an Expanded Amenity recreation fee of $25 for Single Campsites (up to 10 visitors, with the first two vehicles included in the campsite fee; additional vehicles will pay a day-use fee), and $75 for Group Campsites (up to 30 visitors, with the first two vehicles included in the campsite fee; additional vehicles will pay a day-use fee) at the following campground sites: Pumphouse Recreation Area Campground, Radium Recreation Area Campground, Radium Warm Springs Campground, Catamount Campground, Pinball Campground, and Lyon's Gulch Campground.

The Upper Colorado River SRMA Season Pass will apply to day-use sites in both field offices and will be adjusted from $20 per season to $50 per season. This Federal Register notice also provides the required notification that a Special Area and associated Individual Special Recreation Permit (ISRP) fee structure are established for the KFO UCR SRMA and the CRVFO UCR SRMA for on-river camping. KFO is establishing a Special Area for KFO's UCR SRMA based on the 2019 Upper Colorado River Recreation Area Management Plan. CRVFO has completed an environmental assessment to establish a Special Area for CRVFO's UCR SRMA. An ISRP fee (float-in only) of $5 per participant/night will apply to 25 designated campsites in the KFO's UCR SRMA. An ISRP fee (float-in only) of $5 per participant/night will apply to the 11 on-river designated campsites in the CRVFO's UCR SRMA. The campsites subject to the ISRP fee are identified in the Business Plan.

Under 16 U.S.C. 6802(g)(2)(A) and (C) of FLREA, developed campgrounds and rental cabins qualify as sites wherein visitors can be charged an “Expanded Amenity Recreation Fee.” Pursuant to FLREA and implementing regulations at 43 CFR subpart 2933, fees may be charged for overnight camping, rental of cabins, and group use reservations where specific amenities and services are provided. The required amenities are provided, or will be provided prior to fee implementation, at all the campgrounds identified in this notice as subject to an Expanded Amenity Recreation Fee. Specific visitor fees will be identified and posted at each campground or rental cabin.

Under 16 U.S.C. 6802(f)(4) of FLREA, all day-use sites in this notice qualify as areas wherein visitors can be charged a “Standard Amenity Recreation Fee”. Pursuant to FLREA and implementing regulations at 43 CFR part 2930 subpart 2933, fees may be charged for an area where there are significant opportunities for outdoor recreation and where fees can be efficiently collected, and that has substantial Federal investments and contains specific amenities and services. Specific visitor fees will be identified and posted at each day-use site.

In response to increasing recreation demands and visitation on the BLM lands, the KFO and CRVFO developed a combined recreation fee business plan to achieve consistency across the UCR SRMA administrative boundaries. Standard Amenity, Expanded Amenity, and Special Area ISRP fees are needed to maintain visitor facilities and visitor services, replace aging infrastructure, and improve access to recreational opportunities. The business plan explains: (1) consistency with the BLM recreation fee program policy; (2) the KFO and CRVFO recreation management direction for the UCR SRMAs; (3) the need for fee collection; (4) how the fees will be used in the area; (5) Resource Advisory Council (RAC) coordination; and (6) guidance on future fee increases. As analyzed in the business plan, the recreation use fees are consistent with other nearby Federal land management agency fees and are lower than the fees charged at privately owned campgrounds.

The BLM posted public notices of the proposed fees at each recreation site during the 2023 use season. The KFO and CRVFO will contact local governments and local special recreation permit holders who may be affected. Following FLREA guidelines, the BLM Northwest RAC recommended the proposed fee structure for approval on June 22, 2023. The RAC voted to recommend the proposed business plan, giving the BLM the discretion to raise the fees without returning to the RAC for approval within the following ranges: $10 to $15 for a normal vehicle; $5 to $10 for a bike, motorcycle, or walk-in; and $20 to $30 for a high-capacity vehicle, based on the 2023 consumer price index (CPI). Fees will initially be implemented at the lower proposed fee schedule. The CPI will be utilized in future years to increase fees as needed, with CPI escalation allowed for any inflationary adjustment above 2023 dollars.

A public comment period on the draft business plan, announced by news release, ran from October 7, 2024, through November 6, 2024. The Colorado State Director approved the final business plan on December 20, 2024.

(Authority: 16 U.S.C. 6803(b) and 43 CFR 2933.22)

Douglas J. Vilsack,
Colorado State Director.

[FR Doc. 2024-31749 Filed 1-3-25; 8:45 am]

BILLING CODE 4331-16-P